DEPARTMENT OF THE INTERIOR

Bureau of Land Management

[CA-910-5850-EU-CACA-48476]

Notice of Realty Action: Competitive Sale of Public Lands in Riverside County, CA

AGENCY: Bureau of Land Management, Interior.

ACTION: Notice of realty action.

SUMMARY: The Bureau of Land Management (BLM) proposes to sell 51 parcels of public land in the Riverside County, California, aggregating approximately 274.37 acres. The sale will be conducted as a competitive sealed bid auction, in which interested bidders must submit written sealed bids equal to or greater than the appraised fair market value of the land. The sale will be completed under the authority of Sections 203 and 209 of the Federal Land Policy and Management Act of 1976 (43 U.S.C. 1713 and 1719) and the implementing regulations at 43 CFR 2710 and 2720. The purpose of the sale is to dispose of lands which are difficult and uneconomic to manage as part of the public lands.

DATES: Comments regarding the proposed sale must be received by BLM on or before April 26, 2007. Sealed bids must be received no later than 3 p.m., Pacific Standard Time (PST), June 18, 2007, at the address specified below. Other deadline dates for payments, arranging payments, and payment by electronic transfers, are specified in the terms and condition of sale described herein.

ADDRESSES: Comments regarding the proposed sale should be submitted to BLM, to the attention of the Palm Springs—South Coast Field Manager, at the following address: California Desert District, Bureau of Land Management, 22835 Calle San Juan de Los Lagos, Moreno Valley, California 92553. Sealed bids must be submitted to this address. More detailed information regarding the proposed sale and the lands involved, including maps and current appraisal for each parcel may be reviewed during normal business hours between 8 a.m. and 4 p.m. at the California Desert District Office.

FOR FURTHER INFORMATION CONTACT: Janet Eubanks, Realty Specialist or Tom Gey, Realty Specialist (951) 697-5200 or via e-mail at janet_eubanks@ca.blm.gov or thomas_gey@ca.blm.gov.

SUPPLEMENTARY INFORMATION: The following public lands in the Coachella Valley, in Riverside County, California have been identified as available for sale under the 1980 BLM California Desert Conservation Area Plan, as amended, and are proposed for sale. The public lands proposed for sale consist of 51 separate parcels, with a total acreage of approximately 274.37 acres. Parcel 1, described below, contains approximately 21.12 acres, which includes the area encumbered by a right of way for a road and flood control channel which bisects the parcel. Parcels 2 through 51, described below, are each approximately 5 acres in size.

San Bernardino Meridian, California

Parcel 1 T. 3 S., R.5 E., sec. 12, lots 33, 34, 35 and S1/2 of lots 29 to 31, inclusive.

Parcel 2 T. 3 S., R.5 E., sec. 12, W1/2SW1/4NW1/4SE1/4.

Parcel 3 T. 3 S., R.6 E., sec. 6, S1/2SE1/4SW1/4SW1/4.

Parcel 4 T. 3 S., R.6 E., sec. 6, N1/2SE1/4SE1/4SE1/4.

Parcel 5 T. 3 S., R.6 E., Sec. 8, E1/2NW1/4NE1/4NW1/4

Parcel 6 T. 4 S., R.7 E., sec. 4, lot 5.

Parcel 7 T. 4 S., R.7 E., sec. 4, lot 7.

Parcel 8 T. 4 S., R.7 E., sec. 4, lot 8.

Parcel 9 T. 4 S., R.7 E., sec. 4, lot 11.

Parcel 10 T. 4 S., R.7 E., sec. 4, lot 15.

Parcel 11 T. 4 S., R.7 E., sec. 4, lot 13.

Parcel 12 T. 4 S., R.7 E., sec. 4, lot 17.

Parcel 13 T. 4 S., R.7 E., sec. 4, lot 21.

Parcel 14 T. 4 S., R.7 E., sec. 4, lot 22.

Parcel 15 T. 4 S., R.7 E., sec. 4, lot 27.

Parcel 16 T. 4 S., R.7 E., sec. 4, lot 31.

Parcel 17 T. 4 S., R.7 E., sec. 4, lot 29.

Parcel 18 T. 4 S., R.7 E., sec. 4, lot 30.

Parcel 19 T. 4 S., R.7 E., sec. 4, lot 35.

Parcel 20 T. 4 S., R.7 E., sec. 4, lot 43.

Parcel 21 T. 4 S., R.7 E., sec. 4, lot 42.

Parcel 22 T. 4 S., R.7 E., sec. 4, lot 45.

Parcel 23 T. 4 S., R.7 E., sec. 4, lot 56.

Parcel 24 T. 4 S., R.7 E., sec. 4, lot 57.

Parcel 25 T. 4 S., R.7 E., sec. 4, lot 60.

Parcel 26 T. 4 S., R.7 E., sec. 4, lot 61.

Parcel 27 T. 4 S., R.7 E., sec. 4, lot 62.

Parcel 28 T. 4 S., R.7 E., sec. 4, N1/2NW1/4NE1/4SE1/4.

Parcel 29 T. 4 S., R.7 E., sec. 4, N1/2SE1/4NW1/4SE1/4.

Parcel 30 T. 4 S., R.7 E., sec. 4, N1/2NE1/4SE1/4SE1/4.

Parcel 31 T. 4 S., R.7 E., sec. 4, S1/2SW1/4NW1/4SE1/4.

Parcel 32 T. 4 S., R.7 E., sec. 4, N1/2NW1/4SW1/4SE1/4.

Parcel 33 T. 4 S., R.7 E., sec. 4, S1/2SW1/4NW1/4SE1/4.

Parcel 34 T. 4 S., R.7 E., sec. 4, N1/2SW1/4SW1/4SE1/4.

Parcel 35 T. 4 S., R.7 E., sec. 4, S1/2SW1/4SW1/4SE1/4.

Parcel 36 T. 4 S., R.7 E., sec. 4, N1/2NE1/4SW1/4SE1/4.

Parcel 37 T. 4 S., R.7 E., sec. 4, N1/2SW1/4NE1/4SW1/4.

Parcel 38 T. 4 S., R.7 E., sec. 4, S1/2NW1/4SE1/4SW1/4.

Parcel 39 T. 4 S., R.7 E., sec. 4, N1/2SW1/4SE1/4SW1/4.

Parcel 40 T. 4 S., R.7 E., sec. 4, S1/2SW1/4SE1/4SW1/4.

Parcel 41 T. 4 S., R.7 E., sec. 4, N1/2SE1/4NW1/4SW1/4.

Parcel 42 T. 4 S., R.7 E., sec. 4, S1/2SE1/4NW1/4SW1/4.

Parcel 43 T. 4 S., R.7 E., sec. 4, S1/2NE1/4SW1/4SW1/4.

Parcel 44 T. 4 S., R.7 E., sec. 4, N1/2SE1/4SW1/4SW1/4.

Parcel 45 T. 4 S., R.7 E., sec. 4, S1/2SE1/4SW1/4SW1/4.

Parcel 46 T. 4 S., R.7 E., sec. 4, S1/2SW1/4SW1/4SW1/4.

Parcel 47 T. 4 S., R.7 E., sec. 14, N1/2SW1/4SE1/4SE1/4.

Parcel 48 T. 4 S., R.7 E., sec. 14, N1/2SW1/4SE1/4SW1/4.

Parcel 49 T. 4 S., R.7 E., sec. 14, N1/2SE1/4SE1/4SW1/4.

Parcel 50 T. 4 S., R.7 E., sec. 14, S1/2SE1/4SE1/4SW1/4.

Parcel 51 T. 3 S., R. 4 E., sec. 4, E½NW¼SW¼SE¼.

The proceeds from the sale of the parcels will be deposited into the Federal Land Disposal Account, pursuant to the Federal Land Transaction Facilitation Act. With the exception of parcel 1, the lands identified for sale have no known mineral value and the proposed sale would include the conveyance of both the surface and mineral interests of the United States. The United States would reserve geothermal resources under parcel 1. A bid to purchase a parcel will constitute an application for conveyance of the mineral interest and in conjunction with the final payment, the applicant will be required to pay a $50.00 non-refundable filing fee for processing the conveyance of the mineral interest. The terms and conditions applicable to this sale are as follows:

1. All parcels will be conveyed with a reservation of a right-of-way to the United States for ditches and canals constructed by authority of the United States under the Act of August 30, 1890 (43 U.S.C. 945).

2. All parcels will be conveyed subject to valid existing rights. Parcels may be subject to applications for rights of way received prior to publication of this Notice if processing the application would not adversely affect the marketability or appraised value of a parcel. Encumbrances of record, appearing in the BLM public files for the parcels proposed for sale, are available for review during the hours stated above Monday through Friday at the California Desert District Office.

3. All parcels will be conveyed subject to 33-foot easements along all sides of the parcel, in favor of Riverside County, for roads, public utilities and flood control purposes.

4. All parcels will also be conveyed subject to such additional easements as may be necessary to authorize existing and proposed roads, public utilities and flood control facilities based on Riverside County's transportation and land management plans.

5. No warranty of any kind, express or implied, is given by the United States as to the title, physical condition or potential uses of the lands proposed for sale; and the conveyance of any parcel will not be on a contingency basis. To the extent required by law, all such parcels are subject to the requirements of Section 120(h) of the Comprehensive Environmental Response Compensation and Liability Act, as amended (CERCLA) (42 U.S.C. 9620(h)).

6. All purchasers/patentees, by accepting a patent, covenant and agree to indemnify, defend and hold the United States harmless from any costs, damages, claims, causes of action, penalties, fines, liabilities, and judgments of any kind or nature arising from the past, present, and future acts or omissions of the patentees or their employees, agents, contractors, or lessees, or any third-party, arising out of or in connection with the patentees use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of Federal, state, and local laws and regulations that are now or may in the future become applicable to the real property; (2) Judgments, claims or demands of any kind assessed against the United States; (3) Costs, expenses, or damages of any kind incurred by the United States; (4) Releases or threatened releases of solid or hazardous waste(s) and/or hazardous substances(s), as defined by Federal or state environmental laws, off, on, into or under land, property and other interest of the United States; (5) Activities by which solids or hazardous substances or waste, as defined by Federal and state environmental laws are generated, released, stored, used or otherwise disposed of on the patented real property, and any cleanup response, remedial action or other actions related in any manner to said solid or hazardous substances or wastes; or (6) Natural resource damages as defined by Federal and state law. This covenant shall be construed as running with the parcel of land patented or otherwise conveyed by the United States, and may be enforced by the United States in a court of competent jurisdiction.

7. Interested bidders may submit sealed bids for one or more parcels but a separate sealed bid must be submitted for each parcel. Sealed bids must be for not less than the federally approved fair market value. Sealed bids must be received at the California Desert District Office no later than 3 p.m. PST, June 18, 2007. Sealed bid envelopes must be marked on the lower front left corner with the BLM Serial Number for the parcel, the parcel number and the date. For example: CACA 48476-parcel 1, May 31, 2007.

8. Each sealed bid must include a certified check, money order, bank draft, or cashiers check made payable in U.S. dollars to the order of the Bureau of Land Management, for 10 percent of the amount of the bid.

9. The highest qualifying bid for any parcel will be declared the high bid and the high bidder will receive written notice. Bid results will also be posted on the Internet at http://www.ca.blm.gov/ca/cdd/landsale.

10. Bidders submitting matching high bid amounts for the same parcel will be provided an opportunity to submit supplemental bids. The Palm Springs South Coast Field Manager will determine the method of supplemental bidding, which may be by oral auction or additional sealed bids.

11. The remainder of the full bid price for each parcel must be paid within 180 calendar days of the competitive sale date of June 19, 2007, in the form of a certified check, money order, bank draft, or cashier's check made payable in U.S. dollars to the Bureau of Land Management. Personal checks will not be accepted. Failure to pay the full price within the 180 days will disqualify the apparent high bidder and cause the entire bid deposit to be forfeited to the BLM.

12. The BLM will return checks submitted by unsuccessful bidders by U.S. mail.

13. The BLM may accept or reject any or all offers, or withdraw any parcel of land or interest therein from sale, if, in the opinion of the BLM authorized officer, consummation of the sale would not be fully consistent with FLPMA or other applicable law or is determined to not be in the public interest.

14. Under Federal law, the public lands may only be conveyed to U.S. citizens 18 years of age or older; a corporation subject to the laws of any State or of the United States; a State, State instrumentality, or political subdivision authorized to hold properly, or an entity legally capable of conveying and holding lands under the laws of the State of California. Certification of qualifications, including citizenship or corporation or partnership, must accompany the sealed bid.

Additional Information: If not sold, any parcel described in this Notice may be identified for sale later without further legal notice. Unsold parcels may be offered for sale by sealed bid, internet auction, or oral auction. Upon publication of this notice and until the completion of the sale, the BLM is no longer accepting land use applications affecting the parcels identified for sale. However, land use applications may be considered after completion of the sale for parcels that are not sold provided the authorization will not adversely affect the marketability or value of the parcel. In order to determine the value, through appraisal, of the parcels of land proposed to be sold, certain extraordinary assumptions may have been made of the attributes and limitations of the lands and potential effects of local regulations and policies on potential future land uses. Through publication of this Notice, the Bureau of Land Management gives notice that these assumptions may not be endorsed or approved by units of local government. It is the buyer's responsibility to be aware of all applicable local government policies laws, and regulations that would affect the subject lands, including any required dedication of lands for public uses. It is also the buyer's responsibility to be aware of existing or projected uses of nearby properties. When conveyed out of Federal ownership, the lands will be subject to any applicable reviews and approvals by the respective unit of local government for proposed future uses, and any such reviews and approvals will be the responsibility of the buyer. Any land lacking access from a public road or highway will be conveyed as such, and future access acquisition will be the responsibility of the buyer.

Information concerning the sale, including the reservations, sale procedures and conditions, CERCLA and other environmental documents will be available for review at the California Desert District Office. Most of this information will be available on the Internet at http://www.ca.blm.gov/ca/cdd/landsale.

Public Comments: The general public and interested parties may submit comments regarding the proposed sale to the attention of the Palm Spring-South Coast Field Manager at the California Desert District Office address on or before April 26, 2007. Any adverse comments regarding the proposed sale will be reviewed by the California BLM State Director or other authorized official of the Department, who may sustain, vacate, or modify this realty action in whole or in part. Before including your address, phone number, e-mail address, or other personal identifying information in your comment, be advised that your entire comment-including your personal identifying information-may be made publicly available at any time. While you can ask us in your comment to withhold from public review your personal identifying information, we cannot guarantee that we will be able to do so.

(Authority: 43 CFR 2711.1-2(a) and (c))

Dated: January 12, 2007.
J. Anthony Danna,
Deputy State Director, Natural Resources (CA-930).

[FR Doc. E7-4420 Filed 3-9-07; 8:45 am]

BILLING CODE 4310-40-P